DEPARTMENT OF THE INTERIOR

Roosevelt Habitat Conservation Plan (RHCP) for Gila and Maricopa Counties, Arizona

AGENCY: U.S. Fish and Wildlife Service, Department of the Interior.

ACTION: Notice of intent to prepare an Environmental Impact Statement (EIS) and notice of public scoping meeting related to the Roosevelt Habitat Conservation Plan (RHCP).

SUMMARY: Pursuant to the National Environmental Policy Act (NEPA), this notice advises the public that the U.S. Fish and Wildlife Service (Service) intends to prepare an EIS to evaluate the impacts of and alternatives for the possible issuance of an incidental take permit (ITP), pursuant to section 10(a)(1)(B) of the Endangered Species Act of 1973, as amended (Act), to the Salt River Project (SRP). SRP proposes to be an applicant for an ITP, through development and implementation of the RHCP, as required by the Act for issuance of an ITP. The RHCP will provide the measures to minimize and mitigate the effects of the proposed taking of listed and sensitive species and the habitats upon which they depend.

DATES AND ADDRESSES: Written comments on alternatives and issues to be addressed in the EIS are requested by November 22, 2001, and should be sent to Mr. David Harlow, Field Supervisor, U.S. Fish and Wildlife Service, 2321 West Royal Palm Road, Suite 103, Phoenix, AZ 85021 at 602/242-0210. Oral and written comments also will be accepted at a public scoping meeting to be held on October 22, 2001, 6-8 p.m. at the offices of the Salt River Project, 1521 Project Drive, Tempe, Arizona.

Written comments received by the Service become part of the public record associated with this action. Those comments, as well as the names and addresses of anyone who provides comments may and can be disclosed to requesters of information associated with this notice under the Freedom of Information Act.

FOR FURTHER INFORMATION ON THE EIS, CONTACT: On the EIS, Contact: Ms. Sherry Barrett, Assistant Field Supervisor, Tucson Suboffice, U.S. Fish and Wildlife Service, 300 West Congress, Room 6J, Tucson, AZ 85701 at 520/670-4617, or Mr. Jim Rorabaugh, Arizona State Office, U.S. Fish and Wildlife Service, 2321 West Royal Palm Road, Suite 103, Phoenix, AZ 85021 at 602/242-0210.

For further information on the RHCP, Contact: Mr. John Keane, Executive Environmental Policy Analyst, Salt River Project, P.O. Box 52025, PAB355, Phoenix, AZ 85072-2025 at 602/236-5087, or Mr. Steve Dougherty, Senior Ecologist, ERO Resources Corporation, 1842 Clarkson Street, Denver, CO 80218 at 303/830-1188.

SUPPLEMENTARY INFORMATION: This notice advises the public that the Service intends to gather information necessary to determine impacts and formulate alternatives for the EIS related to the potential issuance of an ITP to SRP and the development and implementation of the RHCP, which will provide measures to minimize and mitigate the effects of the incidental take of federally listed species.

Background

Roosevelt Dam and reservoir (Roosevelt) is operated by SRP in conjunction with three other reservoirs on the Salt River and two reservoirs on the Verde River as integral features of the Salt River Reclamation Project (Project), authorized by the Reclamation Act of 1902, and pursuant to a 1917 contract with the United States. Since completion in 1911, Roosevelt has provided water for power generation, irrigation, municipal and other uses. Currently, the reservoir system supplies water to more than 1.6 million people in the cities of Phoenix, Mesa, Chandler, Tempe, Glendale, Gilbert, Scottsdale, Tolleson, and Avondale. In addition, water is provided to irrigate agricultural lands within the Project and for other uses. Also, water is delivered to the Salt River Pima-Maricopa Indian Community, Fort McDowell Indian Community, Gila River Indian Community, Buckeye Irrigation Company, Roosevelt Irrigation District, Roosevelt Water Conservation District, and others. Roosevelt and the other SRP reservoirs also provide a variety of recreational uses and environmental benefits in central Arizona.

Due to dry conditions in central Arizona for the past several years, the reservoir level behind Roosevelt Dam has been below normal. As a result, riparian vegetation has invaded and flourished in the portion of the storage space historically used by SRP to store water for use in the Phoenix metropolitan area. Animals that use riparian habitat have followed the vegetation growth and now occupy areas within the reservoir. In particular, a population of southwestern willow flycatchers (Empidonax traillii extimus), which is listed as endangered under federal law, now occupies habitat within the storage space at Roosevelt. Thus, periodic refilling of the reservoir may adversely affect habitat used by the southwestern willow flycatcher and other sensitive species.

Purpose and Need for Action

Section 9 of the Act prohibits the “taking” of threatened and endangered species. The Service may, however, under limited circumstances, issue permits to take federally listed and candidate species, when such a taking is incidental to, and not the purpose of, otherwise lawful activities. Regulations governing permits for endangered species are at 50 CFR 17.22. The term “take” under the Act means to harass, harm, pursue, hunt, shoot, wound, kill, trap, capture, or collect, or attempt to engage in any such conduct. The proposed permit would allow approved incidental take associated with SRP's filling of the reservoir space and continued operation of Roosevelt, consistent with its purpose as a water storage and power generation facility.

Section 10(a)(1)(B) of the Act and regulations at 50 CFR 17.32 contain provisions for issuing ITPs to non-federal entities for the take of endangered and threatened species, provided the following criteria are met:

1. The taking will be incidental;

2. The applicant will, to the maximum extent practicable, minimize and mitigate the impacts of such taking;

3. The applicant will develop a Habitat Conservation Plan (HCP) and ensure that adequate funding for the HCP will be provided;

4. The taking will not appreciably reduce the likelihood of the survival and recovery of the species in the wild; and

5. Any other measures that the Service may require as being necessary or appropriate for the purposes of the HCP to be met.

Proposed Action

The proposed action is the issuance of an ITP for listed and sensitive species for SRP's operation of Roosevelt, pursuant to section 10(a)(1)(B) of the Endangered Species Act of 1973, as amended. SRP will develop and implement the RHCP, as required by section 10(a)(1)(B) of the Endangered Species Act. The RHCP will provide measures to minimize and mitigate the effects of the proposed taking on listed and sensitive species and their habitats. The biological goal of the RHCP is to ensure that any take of listed species will not appreciably reduce the likelihood of the survival and recovery of the species.

As proposed, the ITP would enable SRP to continue the operation of Roosevelt to store and release water and to generate power.

SRP is expected to apply for an ITP for the following federally listed and candidate species: southwestern willow flycatcher (Empidonax traillii extimus), bald eagle (Haliaeetus leucocephalus), and the yellow-billed cuckoo (Coccyzus americanus).

SRP also is seeking to address and cover any other rare and/or sensitive species that may be affected by SRP's operation of Roosevelt. Unlisted species that are addressed as if they were listed, and that are found to be adequately conserved by the RHCP, will be automatically encompassed by the ITP should they be listed as federally threatened or endangered species at some time in the future. Other listed species for which SRP is not seeking permit coverage also may benefit from the conservation measures provided in the RHCP.

Alternatives

Alternatives currently being considered by the Service include the following:

1. Proposed Action by the Service—Issuance of an ITP by the Service authorizing the continued operation of Roosevelt by SRP with implementation of the RHCP involving measures to minimize and mitigate the potential take of federally listed species.

2. No Action by the Service—No issuance of an ITP by the Service; this would require SRP to do everything within its control to avoid any take of federally listed species associated with its continued operation of Roosevelt.

3. Other Section 10 Alternatives—Issuance of an ITP by the Service for the RHCP involving modifications to operation of Roosevelt and SRP's other reservoirs on the Salt and Verde Rivers along with additional measures to minimize and mitigate the potential take of federally listed species. It is anticipated that the EIS will include one or two reservoir operation alternatives that fall in the range between the Proposed Action and the No Action by the Service.

4. Section 7 Consultation—This alternative would involve reinitiation of consultation on Roosevelt under Section 7 of the Act. The Service completed a consultation with the Bureau of Reclamation in 1996 involving the additional reservoir capacity created by construction at Roosevelt.

Additional Information

It is anticipated that SRP will request a permit duration of 50 years. Implementation of the RHCP will result in the establishment of measures that will provide for the conservation of covered species and their habitats in perpetuity. Research and monitoring, in combination with adaptive management, will be used to facilitate accomplishment of these goals.

The Service will conduct an environmental review that analyzes the proposed action, as well as a range of reasonable alternatives and the associated impact of each. The EIS will be the basis for the Service's evaluation of impacts to the species and to the environment, and the range of alternatives to be evaluated. The EIS is expected to provide biological descriptions of species and habitats and the effects of the proposed action on: vegetation, wetlands, wildlife, threatened or endangered species and species of concern, geology and soils, visual resources, air quality, water resources, flood control, water quality, archaeology, historic structures, traditional cultural properties, land use, recreation, hydropower, water use, local economy, and environmental justice.

Comments and suggestions are invited from all interested parties to ensure that a range of issues and alternatives related to the proposed action are identified. The review of this project will be conducted according to the requirements of the National Environmental Policy Act of 1969, as amended (42 U.S.C. 4321 et seq.), National Environmental Policy Act Regulations (40 CFR parts 1500-1508), and other appropriate federal laws, regulations, policies and guidance.

Related Project Documentation

It is anticipated that the EIS process will make full use (including incorporation by reference, as appropriate, pursuant to NEPA) of documents prepared by other entities regarding the environmental and socioeconomic issues in the project area, copies of which will be available for public inspection at the office of Mr. John Keane, Executive Environmental Policy Analyst, Salt River Project, P.O. Box 52025, PAB355, Phoenix, AZ 85072-2025 at 602/236-5087.

After the environmental review is completed, the Service will publish a notice of availability and a request for comment on the draft EIS and SRP's permit application, which will include the RHCP.

The draft EIS is expected to be completed by January 2002.

Dated: August 21, 2001.
Bryan Arroyo,
Acting Regional Director, Southwest Region, Albuquerque, New Mexico.

[FR Doc. 01-21743 Filed 8-28-01; 8:45 am]

BILLING CODE 4310-55-P